DEPARTMENT OF COMMERCE

National Oceanic and Atmospheric Administration

[Docket No.: 060313063-6063-01; I.D. 032206B]

Financial Assistance To Administer NOAA's Faculty and Student Intern Research Program and Notice of Availability of Funds and Solicitation for Proposals for These Funds

AGENCY: National Oceanic and Atmospheric Administration (NOAA), Department of Commerce.

ACTION: Notice of criteria to administer the NOAA Faculty and Student Intern Research; notice of availability of funds; solicitation for funding proposals.

SUMMARY: The purpose of this document is to advise the public that NOAA's Office of Civil Rights is soliciting proposals from non-profit organizations to design and provide administrative services for NOAA-sponsored internship program aimed at providing training, educational, and research opportunities to faculty, as well as graduate and undergraduate students pursuing degrees related to NOAA's mission. NOAA is seeking applicants with the capacity to design and implement a program that will improve NOAA's outreach and recruitment efforts of underrepresented individuals in the scientific mission-related occupational fields, i.e., fishery biology, environmental law, meteorology, cartography, oceanography, hydrology, computer science, ecology, environmental economics, and engineering. When implemented, the program will provide both student and faculty member participants with stipends, housing assistance, and limited travel expenses. Applicants to design and implement the program must demonstrate a focused and effective outreach and recruitment strategy targeting minority serving institutions and others. It is expected that approximately $250,000 to $300,000 annually will be available for the project.

DATES: Proposals are due to NOAA by 5 p.m., EST, 15 days after date of publication of this document in the Federal Register.

ADDRESSES: It is strongly encouraged that applications submitted in response to this announcement are submitted through the Grants.gov Web site. Electronic access to the Full Funding Opportunity Announcement for this program is available via the Grants.gov Web site: http://www.grants.gov. Applicants must comply with all requirements contained in the Full Funding Opportunity Announcement. Paper applications (a signed original and two copies) may also be submitted to the following address: NOAA Civil Rights Office/OFA51,1305 East West Highway, Room 12222, Silver Spring, MD 20910. No facsimile or electronic mail applications will be accepted.

FOR FURTHER INFORMATION CONTACT: Victoria G. Dancy, (301) 713-0500, ext. 136.

SUPPLEMENTARY INFORMATION: NOAA is committed to recruiting and retaining individuals from underrepresented communities as part of its workforce. With such a limited pool of potential minority employees trained in NOAA-related sciences, it is important that NOAA seek new ways to make students aware of the mission of the agency and to support activities that increase opportunities to attract highly qualified faculty members and college students pursuing degrees or who have obtained degrees in NOAA-related sciences.

Since approximately 40 percent of minority students receive their undergraduate degrees at Minority Serving Institutions (MSIs), targeted recruitment efforts at MSIs are an effective way to increase the number of students from underrepresented communities trained and graduated in NOAA related sciences. For the purposes of this announcement, MSIs are defined as Historically Black Colleges and Universities, Hispanic Serving Institutions, Tribal Colleges and Universities, Alaska Native and Native Hawaiian Serving Institutions as defined by the Department of Education 2004 list http://www.ed.gov/about/offices/list/ocr/minorityinst2004.pdf.

The NOAA Faculty and Student Intern Research Program will be a competitive program designed to provide opportunities to participate in hands-on research, education, and training activities in NOAA-related sciences. The program must be designed to improve NOAA's outreach and recruitment efforts toward underrepresented individuals in the scientific mission-related occupational fields, i.e., fishery biology, environmental law, meteorology, cartography, oceanography, hydrology, computer science, ecology, environmental economics, and engineering. The program will aim to introduce or reintroduce these NOAA-related sciences to the universities and colleges and integrate them into campus-based instruction and research programs. Program activities include summer and academic year internships at NOAA facilities. Faculty stipends will be based on faculty members' regular university salaries. NOAA scientists will be assigned as mentors to participants during the internship period. Participants in the program, both students and faculty members, must be U.S. citizens. Faculty participants must be full-time faculty employed at a U.S. college or university and must hold a degree in the life or physical sciences or engineering. Faculty participants must have research interests in areas related to NOAA's mission. Undergraduate and graduate participants in the program must be enrolled in a U.S. college or university and be pursuing a degree in a science or engineering discipline related to NOAA's mission.

Electronic Access

Applicants can access, download and submit electronic grant applications, including the Full Funding Opportunity Announcement, for NOAA programs at the Grants.gov Web site: http://www.grants.gov or by contacting the program official identified above. The closing date will be the same as for paper submissions noted in this announcement. NOAA strongly recommends that Applicants do not wait until the application deadline date to begin the application process through Grants.gov. If Internet access is unavailable, hard copies of proposals will also be accepted—a signed original and two copies at time of submission. This includes color or high-resolution graphics, unusually sized materials, or otherwise unusual materials submitted as part of the proposal. For color graphics, submit either color originals or color copies. Facsimile transmissions and electronic mail submission of proposals will not be accepted.

Funding Availability

The Office of Civil Rights anticipates that funding will be available at $250,000 to $300,000 a year for a 3-year period. The proposal is limited to a total of $900,000 for a maximum of 3 years and one proposal will be funded. Up to 25 percent of $300,000 is allowed for administrative overhead and at least 75 percent of $300,000 is allocated for student support. It is anticipated that the funding instrument will be a cooperative agreement since NOAA will be substantially involved in identifying NOAA facilities to place students each year during the three-year period of internships, and with collaboration, participation, or intervention in project performance.

Authority: 15 U.S.C. 1540.

Catalog of Federal Domestic Assistance: 11.481.

Eligibility: Proposals will only be accepted from not-for-profit organizations.

Cost Sharing Requirements: None.

Intergovernmental Review: Applications under this program are not subject to Executive Order 12372, “Intergovernmental Review of Federal Programs.”

Evaluation Criteria and Selection Procedures

NOAA published its agency-wide solicitation entitled “Omnibus Notice Announcing the Availability of Grant Funds for Fiscal Year 2006” for projects for Fiscal Year 2006 in the Federal Register on June 30, 2005 (70 FR 37766). The evaluation criteria and selection procedures for projects contained in that omnibus notice are applicable to this solicitation. Copies of this notice are available on the Internet at http://www.ofa.noaa.gov%7Eamd/SOLINDEX.HTML. Further details on evaluation and selection criteria can be found in the full funding opportunity announcement.

Pre-Award Activities

If applicants incur any costs prior to an award being made, they do so solely at their own risk of not being reimbursed by the Government. Notwithstanding any verbal assurance that may have been received, there is no obligation to the applicant on the part of Department of Commerce to cover pre-award costs.

Limitation of Liability

In no event will NOAA or the Department of Commerce accept responsibility for proposal preparation costs if these programs fail to receive funding or are cancelled because of other agency priorities. Publication of this announcement does not oblige NOAA to award any specific project or to obligate any available funds. Recipients and sub-recipients are subject to all Federal laws and agency policies, regulations and procedures applicable to Federal financial assistance awards.

National Environmental Policy Act (NEPA)

NOAA must analyze the potential environmental impacts, as required by the National Environmental Policy Act (NEPA), for applicant projects or proposals which are seeking NOAA Federal funding opportunities. Detailed information on NOAA compliance with NEPA can be found at the following NOAA NEPA Web site: (http://www.nepa.noaa.gov/), including our NOAA Administrative Order 216-6 for NEAP, (http://www.nepa.noaa.gov/NAO216_6_TOC.pdf), and the Council on Environmental Quality implementation regulations, (http://ceq.eh.doe.gov/nepa/regs/ceq/toc_ceq.htm). Consequently, as part of an applicant's package, and under their description of their program activities, applicants are required to provide detailed information on the activities to be conducted, locations, sites, species and habitat to be affected, possible construction activities, and any environmental concerns that may exist (e.g., the use and disposal of hazardous or toxic chemicals introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for the denial of an application. In some cases if additional information is required after application is selected, funds can be withheld by the Grants Officer under a special award condition requiring the recipient to submit additional environmental compliance information sufficient to enable NOAA to make an assessment on any impacts that a project may have on the environment.

Pre-Award Notification Requirements for Grants and Cooperative Agreements

The Department of Commerce Pre-Award Notification Requirements for Grants and Cooperative Agreements contained in the Federal Register Notice of December 30, 2004 (69 FR 78389) are applicable to this solicitation.

Paperwork Reduction Act (PRA)

This notification involves collection-of-information requirements subjects to the Paperwork Reduction Act. The use of Standard Forms 424, 424A, 424B, and SF-LLL and CD-346 has been approved by the Office of Management and Budget (OMB) under control numbers 0348-0043, 0348-0044, 0348-0040 and 0348-0046 and 0605-0001, respectively. Notwithstanding any other provision of law, no person is required to respond to, nor shall any person be subject to a penalty for failure to comply with, a collection of information subject to the requirements of the PRA unless that collection of information displays a currently valid OMB control number.

Executive Order 12866

It has been determined that this notice is not significant for purposes of Executive Order 12866.

Executive Order 13132 (Federalism)

It has been determined that this notice does not contain policies with Federalism implications as that term is defined in Executive Order 13132.

Executive Order Administrative Procedure Act/Regulatory Flexibility Act

Prior notice and an opportunity for public comment re not required by the Administrative Procedure Act or any other law for rules concerning public property, loans, grants, benefits, and contracts (5 U.S.C. 553(a)(2)). Because notice and opportunity for comments are not required pursuant to 5 U.S.C. 553 or any other law, the analytical requirements of the Regulatory Flexibility Act (5 U.S.C. 601 et seq.) are inapplicable. Therefore, a regulatory flexibility analysis has not been prepared.

Dated: March 27, 2006.
Alfred A. Corea,
Director, Civil Rights Office, National Marine Fisheries Service.

[FR Doc. 06-3084 Filed 3-29-06; 8:45 am]

BILLING CODE 3510-12-M